ENVIRONMENTAL PROTECTION AGENCY

[ER-FRL-6657-1]

Environmental Impact Statements; Notice of Availability

Responsible Agency: Office of Federal Activities, General Information (202) 564-7167 or http://www.epa.gov/compliance/nepa/.

Weekly receipt of Environmental Impact Statements

Filed October 18, 2004 Through October 22, 2004

Pursuant to 40 CFR 1506.9.

EIS No. 040495, FINAL EIS, AFS, MT, Fortine Project, To Implement Vegetation Management, Timber Harvest and Fuel Reduction Activities, Kootenai National Forest, Fortine Ranger District, Lincoln County, MT, Wait Period Ends: November 29, 2004, Contact: Joleen Dunham (406) 882-4451.

EIS No. 040496, DRAFT SUPPLEMENT, FHW, NC, Eastern Section of the Winston-Salem Northern Beltway, U.S. 52 south to I-40 Business and I-40 Business south to U.S. 311, Improvements to the Surface Transportation Network, TIP Project Nos. U-2579 and U-2579A, Forsyth County, NC, Comment Period Ends: January 5, 2005, Contact: John F. Sullivan, III, P.E. (919) 856-4346.

EIS No. 040497, FINAL SUPPLEMENT, FHW, NC, Western Section of the Winston-Salem Northern Beltway, U.S. 158 north to U.S. 52, TIP Nos. R-2247, Forsyth County, NC, Wait Period Ends: November 29, 2004, Contact: John F. Sullivan, III, P. (919) 856-4346.

EIS No. 040498, FINAL EIS, AFS, UT, Wasatch Powerbird Guides Permit Renewal, Authorization to Continue Providing Guided Helicopter Skiing Activities on National Forest System (NFS) Land on the Wasatch-Cache and Uinta National Forests, Special-Use Permit (SUP), Provo and Salt Lake City, UT, Wait Period Ends: November 29, 2004, Contact: Steve Scheid (801) 733-2689. This document is available on the Internet at: http://www.fs.fed.us/r4/wcnf/projects/decision/wpg.

EIS No. 040499, FINAL EIS, COE, AK, Unalaska Navigation Improvements Project, Construction of Harbor on Amaknak Island in Aleutian Island Chain, Locally known as “Little South America, Integrated Feasibility Report, Aleutian Island, AK, Wait Period Ends: November 29, 2004, Contact: Guy McConnell (907) 753-2614.

EIS No. 040500, DRAFT EIS, FHW, UT, Brown Park Road Project, Reconstruction (Paving) and Partial Re-alignment from Red Creek to Colorado State Line, Diamond Mountain Resource Management Plan Amendment (BLM), U.S. Army COE Section 404 Permit, Daggett County, UT, Comment Period Ends: December 17, 2004, Contact: Gregory S. Punske, P.E. (801) 963-0182.

EIS No. 040501, FINAL EIS, COE, CA, Hamilton City Flood Damage Reduction and Ecosystem Restoration, Propose to Increase Flood Protection and Restore the Ecosystem, Sacramento River, Glenn County, CA Wait Period Ends: November 29, 2004, Contact: Alicia Kirchner (916) 557-6767.

EIS No. 040502, FINAL EIS, FHW, CT, CT-2/2A/32,Transportation Improvement Study, Construction, Funding, Coast Guard Bridge Permit, NPDES Permit, COE Section 10 and 404 Permit, New London County, CT, Wait Period Ends: November 29, 2004, Contact: Bradley Keazer (860) 659-6703.

EIS No. 040503, FINAL EIS, COE, CA, Matilija Dam Ecosystem Restoration Feasibility Study, Restoring Anadromous Fish Populations, Matilija Creek, Ventura River, Ventura County Watershed Protection District, Ventura County, CA, Wait Period Ends: November 29, 2004, Contact: Chris Serjack (213) 452-3865.

Dated: October 26, 2004.
Robert W. Hargrove,
Director, NEPA Compliance Division, Office of Federal Activities.

[FR Doc. 04-24252 Filed 10-28-04; 8:45 am]

BILLING CODE 6560-50-P